DEPARTMENT OF TRANSPORTATION

Pipeline and Hazardous Materials Safety Administration

Office of Hazardous Materials Safety; Notice of Delays in Processing of Special Permits Applications

AGENCY: Pipeline and Hazardous Materials Safety Administration (PHMSA), DOT.

ACTION: List of Applications Delayed more than 180 days.

SUMMARY: In accordance with the requirements of 49 U.S.C. 5117(c), PHMSA is publishing the following list of special permit applications that have been in process for 180 days or more. The reason(s) for delay and the expected completion date for action on each application is provided in association with each identified application.

FOR FURTHER INFORMATION CONTACT: Ryan Paquet, Director, Office of Hazardous Materials Special Permits and Approvals, Pipeline and Hazardous Materials Safety Administration, U.S. Department of Transportation, East Building, PHH-30, 1200 New Jersey Avenue Southeast, Washington, DC 20590-0001, (202) 366-4535.

Key to “Reason for Delay”

1. Awaiting additional information from applicant

2. Extensive public comment under review

3. Application is technically complex and is of significant impact or precedent-setting and requires extensive analysis

4. Staff review delayed by other priority issues or volume of special permit applications

Meaning of Application Number Suffixes

N—New application

M—Modification request

R—Renewal Request

P—Party To Exemption Request

Issued in Washington, DC, on November 1, 2011.
Donald Burger,
Chief, General Approvals and Permits.

Application No. | Applicant | Reason for delay | Estimated date of completion
Modification to Special Permits
14167-M | Trinityrail, Dallas, TX | 4 | 03-31-2012
14741-M | Weatherford International, Fort Worth, TX | 4 | 03-31-2012
8826-M | Phoenix Air Group, Inc., Cartersville, GA | 4 | 03-31-2012
12561-M | Rhodia, Inc., Cranbury, NJ | 4 | 03-31-2012
8815-M | Florex Explosives, Inc., Crystal River, FL | 4 | 03-31-2012
14763-M | Weatherford International, Forth Worth, TX | 4 | 03-31-2012
14860-M | Alaska Airlines, Seattle, WA | 4 | 03-31-2012
14909-M | Lake Clark Air, Inc., Port Alsworth, AK | 4 | 03-31-2012
10656-M | Conference of Radiation Control Program Directors, Inc., Frankfort, KY | 4 | 03-31-2012
12629-M | TEA Technologies, Inc., Amarillo, TX | 4 | 03-31-2012
11406-M | Conference of Radiation Control, Program Directors, Inc., Frankfort, KY | 4 | 03-31-2012
10898-M | Hydac Corporation, Bethlehem, PA | 3 | 03-31-2012
11670-M | Schlumberger Oilfield UK Plc, Dyce, Aberdeen Scotland, Ab | 3 | 03-31-2012
14193-M | Honeywell International, Inc., Morristown, NJ | 4 | 03-31-2012
13336-M | Renaissance Industries, Inc., Sharpsville Operations M-1102, Sharpsville, PA | 4 | 03-31-2012
8723-M | Maine Drilling & Blasting, Auburn, NH | 4 | 03-31-2012
14584-M | WavesinSolids LLC, State College, PA | 4 | 03-31-2012
10646-M | Schlumberger Technologies Corporation, Sugar Land, TX |  | 03-31-2012
9758-M | Coleman Company, Inc., The, Wichita, KS | 4 | 03-31-2012
14921-M | ERA Helicopters LLC, Lake Charles, LA | 4 | 03-31-2012
14457-M | Amtrol Alfa Metalomecanica SA, Portugal |  | 03-31-2012
13736-M | ConocoPhillips, Anchorage, AK | 4 | 03-31-2012
New Special Permit Applications
14813-N | Organ Recovery Systems, Des Plaines, IL | 4 | 03-31-2012
14872-N | Arkema, Inc., King of Prussia, PA | 4 | 03-31-2012
14929-N | Alaska Island Air, Inc., Togiak, AK | 4 | 03-31-2012
14951-N | Lincoln Composites 1, Lincoln, NE | 1 | 03-31-2012
15053-N | Department of Defense, Scott Air Force Base, IL | 4 | 03-31-2012
15080-N | Alaska Airlines 1, Seattle, WA | 1 | 03-31-2012
15233-N | ExpressJet Airlines, Inc., Houston, TX | 4 | 03-31-2012
15229-N | Linde Gas North America LLC, New Providence, NJ | 4 | 03-31-2012
15243-N | Katmai Air, LLC, Anchorage, AK | 4 | 03-31-2012
15257-N | GFS Chemicals, Columbus, OH | 4 | 03-31-2012
15274-N | Coastal Helicopters, Juneau, AK | 4 | 03-31-2012
15283-N | KwikBond Polymers, LLC, Benicia, CA |  | 03-31-2012
15334-N | Floating Pipeline Company, Incorporated, Halifax, Nova Scotia | 4 | 03-31-2012
15322-N | Digital Wave Corporation, Englewood, CO | 4 | 03-31-2012
15317-N | The Dow Chemical Company, Philadelphia, PA |  | 03-31-2012
15338-N | Middle Fork Aviation, Challis, ID | 4 | 03-31-2012
15360-N | FMC Corporation, Tonawanda, NY |  | 03-31-2012
14839-N | Matheson Tri-Gas, Inc., Basking Ridge, NJ | 3 | 03-31-2012
Party to Special Permits Application
10880-P | Southwest Energy LLC, Tucson, AZ | 4 | 03-31-2012
9623-P | Austin Star Detonator Company (ASD), Brownsville, TX | 4 | 03-31-2012
10880-P | Austin Star Detonator Company (ASD), Brownsville, TX | 4 | 03-31-2012
7887-P | WES & T LLC, Tulsa, OK | 4 | 03-31-2012
11984-P | GEM of Rancho Cordova, LLC, dba PSC Environmental Services, Cordova, CA | 4 | 03-31-2012
13548-P | American Battery Corporation, Escondido, CA | 4 | 03-31-2012
8445-P | GEM of Rancho Cordova, LLC, dba PSC Environmental Services, Cordova, CA | 4 | 03-31-2012
8723-P | Maxam US, LLC, Salt Lake City, UT | 4 | 03-31-2012
12134-P | Riceland Foods, Inc., Stuttgart, AR | 4 | 03-31-2012
10048-P | Chemical Analytics, Inc., Romulus, MI | 4 | 03-31-2012
12412-P | C.E.O. Performance Chemicals, LLC, DBA: ChemStation Texas Gulf Coast, Houston, TX | 4 | 03-31-2012
11055-P | Stericycle Specialty Waste, Solutions Inc., Blaine, MN | 4 | 03-31-2012
8196-P | International Equipment Leasing, Avenel, NJ | 4 | 03-31-2012
12412-P | ChemStation of Kansas City, Grain Valley, MO | 4 | 03-31-2012
12905-P | Gumderson, LLC, Portland, OR | 4 | 03-31-2012
7616-P | Iowa Northern Railway, Greene, IA | 4 | 03-31-2012
10880-P | WESCO, Midvale, UT |  | 03-31-2012
8723-P | SLT Express Way Inc., Glendale, AZ | 4 | 03-31-2012
11296-P | Waste Management National Services, Inc., Oak Park, IL | 4 | 03-31-2012
8445-P | PSC Industrial Outsourcing LP dba Philip West Industrial Services, Long Beach, CA | 4 | 03-31-2012
8445-P | Burlington Environmental, LLC, Tacoma, WA | 4 | 03-31-2012
11984-P | Burlington Environmental, LLC, Tacoma, WA | 4 | 03-31-2012
8445-P | Rho Chem, LLC, Inglewood, CA | 4 | 03-31-2012
7887-P | 21st Century Environmental Management of California, LP, Santa Clara, CA | 4 | 03-31-2012
14173-P | Union Carbide Corporation, Hahnville, LA | 4 | 03-31-2012
8445-P | Babcock & Wilcox Technical Services, Pantex, LLC, Amarillo, TX | 4 | 03-31-2012
12325-P | United Oil Recovery D/B/A United Industrial Services, Meriden, CT |  | 03-31-2012
10457-P | Thatcher Company of Nevada, Henderson, NV | 4 | 03-31-2012
Renewal Special Permits Applications
8445-R | Environmental Products & Services, Inc., Syracuse, NY | 4 | 03-31-2012
6691-R | Praxair, Inc., Danbury, CT | 4 | 03-31-2012
12443-R | Thatcher Company of Nevada, Henderson, NV | 4 | 03-31-2012
14482-R | Classic Helicopters Limited, L.C., Woods Cross, UT | 4 | 03-31-2012
11759-R | E.I. duPont de Neumours & Company, Inc., Wilmington, DE | 4 | 03-31-2012
14550-R | Air Liquide Electronics Materials, F-71106 Chalon-sur-Saone Cedex | 4 | 03-31-2012
12905-R | Union Tank Car Company, Alexandria, VA | 4 | 03-31-2012
12905-R | American Railcar Leasing, St. Charles, MO | 4 | 03-31-2012
8723-R | Nelson Brothers Mining Services, LLC, Birmingham, AL | 4 | 03-31-2012
12905-R | American Railcar Industries, St. Charles, MO | 4 | 03-31-2012
12905-R | GATX Rail Corporation, Chicago, IL | 4 | 03-31-2012
12905-R | G. E. Capital Rail Services, Chicago, IL | 4 | 03-31-2012
8445-R | Thunderbird Trucking, LLC, East Chicago, IL | 4 | 03-31-2012
12905-R | Procor Limited, Oakville, ON | 4 | 03-31-2012
12905-R | Trinity Industries, Inc., Dallas, TX | 4 | 03-31-2012
11749-R | Occidental Chemical Corporation, Dallas, TX | 4 | 03-31-2012
7891-R | Aldrich Chemical Company Inc., Milwaukee, WI | 4 | 03-31-2012
6293-R | Dyno Nobel, Inc., Salt Lake City, UT | 4 | 03-31-2012
11749-R | Union Tank Car Company, East Chicago, IN | 4 | 03-31-2012
11502-R | Fed/Ex Express, Memphis, TN | 4 | 03-31-2012
8697-R | TEMSCO Helicopters, Inc., Ketchikan, AK | 4 | 03-31-2012
7835-R | Air Products & Chemicals, Inc., Allentown, PA | 4 | 03-31-2012
7887-R | Quest Aerospace, Inc., Pagosa Springs, CO | 4 | 03-31-2012
14385-R | Union Pacific Railroad Company, Omaha, NE | 4 | 03-31-2012
12283-R | Interstate Battery of Alaska, Anchorage, AK | 4 | 03-31-2012
11502-R | UPS, Inc., Atlanta, GA | 4 | 03-31-2012
4884-R | Airgas, Inc., Cheyenne, WY | 4 | 03-31-2012
7835-R | Airgas, Inc., Cheyenne, WY | 4 | 03-31-2012
12726-R | FedEx Express Corporation, Memphis, TN | 4 | 03-31-2012
9157-R | Matheson Tri-Gas, Basking Ridge, NJ | 4 | 03-31-2012
7835-R | Robbie D. Wood Inc., Dolomite, AL | 4 | 03-31-2012
10709-R | Nalco Company, Naperville, IL | 4 | 03-31-2012
14691-R | FedEx Express, Memphis, TN | 4 | 03-31-2012
11984-R | Heritage Transport, LLC, Indianapolis, IN | 4 | 03-31-2012
5112-R | U.S. Department of Defense, Scott Air Force Base, IL | 4 | 03-31-2012
7835-R | Air Liquide America L.P., Houston, TX | 4 | 03-31-2012
6971-R | Chem Service, Inc., West Chester, PA | 4 | 03-31-2012
11660-R | Olsen Tuckpointing Company, Barrington, IL | 4 | 03-31-2012
11055-R | Disposal Consultant Services, Inc., Piscataway, NJ | 4 | 03-31-2012
2787-R | Raytheon Company, Andover, MA | 4 | 03-31-2012
7887-R | Republic Environmental Systems, (Pennsylvania), LLC, Hatfield, PA | 4 | 03-31-2012
2709-R | U.S. Dept. of Defense (MSDDC), Scott AFB, IL | 4 | 03-31-2012
10709-R | Schlumberger Technologies Corporation, Sugar Land, TX | 4 | 03-31-2012
7887-R | EQ Industrial Services, Inc., Ypsilanti, MI | 4 | 03-31-2012
11984-R | American Airlines, Inc., Tulsa, OK | 4 | 03-31-2012
4850-R | Owen Oil Tools LP, Godley, TX | 4 | 03-31-2012
8915-R | Praxair, Inc., Danbury, CT | 4 | 03-31-2012
9623-R | Orica USA Inc., Watkins, CO | 4 | 03-31-2012
10045-R | FedEx Express, Memphis, TN | 4 | 03-31-2012
11227-R | Schlumberger Well Services, a Division of Schlumberger Technology Corporation, Sugar Land, TX | 4 | 03-31-2012
4850-R | Ensign-Bickford Aerospace & Defense Company, Simsbury, CT | 4 | 03-31-2012
4850-R | Honeywell International, Inc., Morristown, NJ | 4 | 03-31-2012
14741-R | Weatherford International, Fort Worth, TX | 4 | 03-31-2012
3004-R | Air Products & Chemicals, Inc., Allentown, PA | 4 | 03-31-2012
6443-R | Marsulex Sulfides, Fort Saskatchewan, AB | 4 | 03-31-2012
9929-R | Alliant Techsystems Inc., Propulsion & Controls, (Former Grantee ATK Elkton), Elkton, MD | 4 | 03-31-2012
11903-R | Comptank Corporation, Bothwell, ON | 4 | 03-31-2012
11043-R | A & D Environmental Services, Inc., Archdale, NC | 4 | 03-31-2012
4850-R | Schlumberger Technology Corporation, Sugar Land, TX | 4 | 03-31-2012
8307-R | Sandia National Laboratories, Albuquerque, NM | 4 | 03-31-2012
8445-R | Precision Industrial Maintenance, Inc., Schenectady, NY | 4 | 03-31-2012
7972-R | E.I. Du Pont de Nemours & Company, Wilmington, DE | 4 | 03-31-2012
11110-R | United Parcel Services Company, Louisville, KY | 4 | 03-31-2012
11227-R | Baker Hughes Oilfield Operations, Inc dba Baker Atlas, (Former Grantee: Baker Hughes), Houston, TX | 4 | 03-31-2012
3004-R | Air Liquide America L.P., Houston, TX | 4 | 03-31-2012
3004-R | Praxair Inc., Danbury, CT | 4 | 03-31-2012
3004-R | Praxair Distribution, Inc., Danbury, CT | 4 | 03-31-2012
4850-R | Department of Defense, Scott AFB, IL | 4 | 03-31-2012
12283-R | Federal Aviation Administration, Alaskan Region (FAA), Anchorage, AK | 4 | 03-31-2012
14755-R | Tanner Industries Inc., Southampton, PA | 4 | 03-31-2012
4850-R | Halliburton Energy Services, Inc., Duncan, OK | 4 | 03-31-2012
6691-R | nexAir, LLC, Memphis, TN | 4 | 03-31-2012
6691-R | ABCO Welding & Industrial Supply, Inc., (Show Cause Letter), Waterford, CT | 4 | 03-31-2012
10985-R | Domtar A.W. Corp., Ashdown, AR | 4 | 03-31-2012
8445-R | AET Environmental, Inc., Denver, CO | 4 | 03-31-2012
11073-R | E.I. du Pont de Nemours & Company, Wilmington, DE | 4 | 03-31-2012
14791-R | Heliqwest International Inc., Montrose, CO | 4 | 03-31-2012
970-R | Voltaix, Inc., North Branch, NJ | 4 | 03-31-2012
10672-R | Burlington Packaging, Inc., Brooklyn, NY | 4 | 03-31-2012
9623-R | Alaska Pacific Powder Company, Anchorage, AK | 4 | 03-31-2012
8445-R | Heritage Transport, LLC, Indianapolis, IN | 4 | 03-31-2012
4850-R | Accurate Energetic Systems, LLC, Mc Ewen, TN | 4 | 03-31-2012
10048-R | Maine LabPack, South Portland, ME | 4 | 03-31-2012
7887-R | Stericycle Specialty Waste Solutions Inc., Blaine, MN | 4 | 03-31-2012
8445-R | Stericycle Specialty Waste Solutions Inc., Blaine, MN | 4 | 03-31-2012
7954-R | Matheson Tri Gas, Inc., Basking Ridge, NJ | 4 | 03-31-2012
8445-R | SET Environmental, Inc., Wheeling, IL | 4 | 03-31-2012
8445-R | Clean Harbors Environmental Services, Inc., Norwell, MA | 4 | 03-31-2012
9623-R | Austin Powder Company, Cleveland, OH | 4 | 03-31-2012
13161-R | Honeywell International Inc., Morristown, NJ | 4 | 03-31-2012
11043-R | AET Environmental, Inc., Denver, CO | 4 | 03-31-2012
12095-R | Clean Harbors Environmental, Services, Inc., Norwell, MA | 4 | 03-31-2012
7887-R | Northland Environmental, LLC, Providence, RI | 4 | 03-31-2012
6691-R | Matheson Tr-Gas, Inc. 9, (Show Cause Letters), Basking Ridge, NJ | 4 | 03-31-2012
7594-R | Bromine Compounds, Ltd., Beer Sheva, UT | 4 | 03-31-2012
9623-R | Buckley Powder Company, Englewood, CO | 4 | 03-31-2012
11348-R | BASF Corporation, Florham Park, NJ | 4 | 03-31-2012
7887-R | Photo Waste Recycling Co., Inc., San Raafel, CA | 4 | 03-31-2012
11296-R | Environmental Waste Services, Inc., Elburn, IL | 4 | 03-31-2012
7887-R | Chemical Pollution Control of FL, LLC, Deerfield Beach, FL | 4 | 03-31-2012
11296-R | Bay West, Inc., St. Paul, MN | 4 | 03-31-2012
12283-R | AT&T Alascom, Anchorage, AK | 4 | 03-31-2012
8156-R | Gas Dynamics, a division of the Argus Group. Inc., Chesterfield, MI | 4 | 03-31-2012
7887-R | 21st Century Environmental Management, LLC of RI, Providence, RI | 4 | 03-31-2012
970-R | BASF Corporation, Florham, NJ | 4 | 03-31-2012
7073-R | Afton Chemical Corporation, Richmond, VA | 4 | 03-31-2012
7073-R | Ethyl Corporation, Richmond, VA | 4 | 03-31-2012
8445-R | University of Vermont, Burlington, VT | 4 | 03-31-2012
12905-R | Texana Tank Car & Mfg., Ltd., Nash, TX | 4 | 03-31-2012
6805-R | Praxair Distribution Southeast, LLC, Tequesta, FL | 4 | 03-31-2012
6691-R | Praxair Distribution Southeast, LLC, Tequesta, FL | 4 | 03-31-2012
8445-R | Chemical Analytics, Inc., Romulus, MI | 4 | 03-31-2012
12412-R | American Development Corporation, Fayetteville, TN | 4 | 03-31-2012
7616-R | B&H Rail Corporation (BH), The, Lakeville, NY | 4 | 03-31-2012
11984-R | American Eagle Airlines, Inc., DFW Airport, TX | 4 | 03-31-2012
970-R | U.S. Department of Defense, Scott AFB, IL | 4 | 03-31-2012
6805-R | Air Liquide America LP, Houston, TX | 4 | 03-31-2012
8445-R | Chemical Pollution Control of FL, LLC, Deerfield Beach, FL | 4 | 03-31-2012
7954-R | Solvay Fluorides, LLC, Houston, TX | 4 | 03-31-2012
7954-R | Solvay Fluor Korea Co., Ltd., Uliju-Kun, Ulsan Korea | 4 | 03-31-2012
8445-R | Northland Environmental, LLC, Providence, RI | 4 | 03-31-2012
8445-R | 21st Century Environmental Management, LLC of RI, Providence, RI | 4 | 03-31-2012
8757-R | Milton Roy Company, Ivyland, PA | 4 | 03-31-2012
10880-R | Buckley Powder Company, Englewood, CO | 4 | 03-31-2012
11984-R | 21st Century Environmental Management, LLC of RI, Providence, RI | 4 | 03-31-2012
11984-R | Northland Environmental, LLC, (Northland), Providence, RI | 4 | 03-31-2012
11984-R | Chemical Pollution Control of FL, LLC, Deerfield Beach, FL | 4 | 03-31-2012
12095-R | Lyondell Basell Industeries, (former Grantee Lyondell Chemical), Houston, TX | 4 | 03-31-2012
6691-R | Linde Gas Puerto Rico Inc, New Providence, NJ | 4 | 03-31-2012
6691-R | Linde Gas North America LLC, New Providence, NJ | 4 | 03-31-2012
5022-R | U.S. Department of Defense, Scott AFB, IL | 4 | 03-31-2012
5022-R | Aerojet Corporation, Culpeper, VA | 4 | 03-31-2012
5022-R | ATK Launch Systems Inc., Brigham City, UT | 4 | 03-31-2012
10458-R | Chemtrade Logistics Inc., Toronto, ON | 4 | 03-31-2012
10650-R | Loveland Products, Inc., Billings, MT | 4 | 03-31-2012
10880-R | Hilltop Energy, Inc., Mineral City, OH | 4 | 03-31-2012
15073-R | Utility Aviation, Inc., Loveland, CO | 4 | 03-31-2012
8445-R | Philip Reclamation Services, Houston, LLC, Houston, TX | 4 | 03-31-2012
8995-R | Flexible Products Company of Marietta, GA, a wholly owned subsidiary of The Dow Chemical Company, Philadelphia, PA | 4 | 03-31-2012
10880-R | Dyno Nobel, Inc., Salt Lake City, UT | 4 | 03-31-2012
11043-R | Republic Environmental, Systems, PA. LLC, Hatfield, PA | 4 | 03-31-2012
11043-R | A & D Environmental, Services (SC), LLC, Lexington, SC | 4 | 03-31-2012
11984-R | Allworth, LLC, Birmingham, AL | 4 | 03-31-2012
11984-R | Republic Environmental, Systems (Pennsylvania) LLC, Hatfield, PA | 4 | 03-31-2012
11373-R | A & D Environmental, Services (SC), LLC, Lexington, SC | 4 | 03-31-2012
13020-R | Bristol Bay Contractors, Inc., King Salmon, AK | 4 | 03-31-2012
13192-R | A & D Environmental, Services (SC), LLC, Lexington, SC | 4 | 03-31-2012
5022-R | ATK ABL, Rocket Center, WV | 4 | 03-31-2012
8995-R | BASF Corporation, Florham Park, NJ | 4 | 03-31-2012
12014-R | Trane Company, The, Charlotte, NC | 4 | 03-31-2012
14193-R | Honeywell International, Inc., Morristown, NJ | 4 | 03-31-2012
8445-R | Advanced Waste Carriers, Inc., West Allis, WI | 4 | 03-31-2012
11215-R | Orbital Sciences Corporation, Mojave, CA | 4 | 03-31-2012
14823-R | FedEx Ground Package System, Inc., Moon Township, PA | 4 | 03-31-2012
12325-R | Air Liquide America L.P., Houston, TX | 4 | 03-31-2012
12412-R | FMC Corporation, Philadelphia, PA | 4 | 03-31-2012
5022-R | Custom Analytical Engineering, Systems, Inc., Flintstone, MD | 4 | 03-31-2012
8915-R | Linde Gas North America LLC, Murray Hill, NJ | 4 | 03-31-2012
11759-R | 3M, Saint Paul, MN | 4 | 03-31-2012
11966-R | FMC Corporation, Philadelphia, PA | 4 | 03-31-2012
2709-R | Aerojet Corporation, Culpeper, VA | 4 | 03-31-2012
3004-R | Air Liquide America, Specialty Gases LLC, Plumsteadville, PA | 4 | 03-31-2012
8156-R | Air Liquide America, Specialty Gases LLC, Plumsteadville, PA | 4 | 03-31-2012
8723-R | Western Explosive Systems Company DBA WESCO, Midvale, UT | 4 | 03-31-2012
14828-R | Croman Corporation, White City, OR | 4 | 03-31-2012
6805-R | Air Liquide America Specialty Gases LLC, Plumsteadville, PA | 4 | 03-31-2012
8445-R | Effective Environmental, Inc., Mesquite, TX | 4 | 03-31-2012
7887-R | PSC Recovery Systems, LLC, Dallas, TX | 4 | 03-31-2012
8445-R | PSC Recovery Systems, LLC, Dallas, TX | 4 | 03-31-2012
11984-R | PSC Recovery Systems, LLC, Dallas, TX | 4 | 03-31-2012
8156-R | Airgas, Inc., Cheyenne, WY | 4 | 03-31-2012
12325-R | Kraton Polymers, U.S. LLC, Belpre, OH | 4 | 03-31-2012
8915-R | Air Liquide America Specialty Gases LLC, Plumsteadville, PA | 4 | 03-31-2012
6670-R | Linde Gas North America LLC, Murray Hill, NJ | 4 | 03-31-2012
7887-R | Philip Reclamation Services, Houston, LLC, Houston, TX | 4 | 03-31-2012
6691-R | Industrial Gas Distributors, (Show Cause Letter), Billings, MT | 4 | 03-31-2012
12858-R | Union Carbide, North Seadrift, TX | 4 | 03-31-2012
10043-R | Texas Instruments, Incorporated (“IT”), Dallas, TX | 4 | 03-31-2012
10880-R | Austin Powder Company, Cleveland, OH | 4 | 03-31-2012
7887-R | Clean Harbors Caribe, Inc., Catano, PR | 4 | 03-31-2012
12858-R | The Dow Chemical Company, Philadelphia, PA | 4 | 03-31-2012
8445-R | EQ Industrial Services, Inc., Ypsilanti, MI | 4 | 03-31-2012
12325-R | SNF Holding Company, Riceboro, GA | 4 | 03-31-2012
7835-R | General Air Service & Supply, Denver, CO | 4 | 03-31-2012
7648-R | American Aviation, Inc., Salt Lake City, UT |  | 03-31-2012
12744-R | AFL Network Services, Inc., Duncan, SC | 4 | 03-31-2012
10457-R | Thatcher Transportation, Inc., Salt Lake City, UT | 4 | 03-31-2012
14204-R | Chemtura Corporation, Middlebury, CT |  | 03-31-2012

[FR Doc. 2011-28632 Filed 11-7-11; 8:45 am]

BILLING CODE 4910-60-M